DEPARTMENT OF ENERGY

Hydrogen and Fuel Cell Technical Advisory Committee

AGENCY: Office of Energy Efficiency and Renewable Energy, Department Of Energy.

ACTION: Notice of open teleconference.

SUMMARY: This notice announces a teleconference call of the Hydrogen and Fuel Cell Technologies Technical Advisory Committee (HTAC). The Federal Advisory Committee Act requires that public notice of these meetings be announced in the Federal Register.

DATES: Friday, November 2, 2018 from 1 p.m. to 2:30 p.m. (EDT). To receive the call-in number and passcode, please contact the Committee's Designated Federal Officer at the address or phone number listed below.

FOR FURTHER INFORMATION CONTACT: Shawna McQueen, Designated Federal Officer, Office of Energy Efficiency and Renewable Energy, Fuel Cell Technologies Office, US Department of Energy, 1000 Independence Ave. SW, Washington, DC 20585. Phone number 202-586-0833, and email: shawna.mcqueen@ee.doe.gov.

SUPPLEMENTARY INFORMATION:

Purpose of the Committee: The Hydrogen and Fuel Cell Technical Advisory Committee (HTAC) was established under section 807 of the Energy Policy Act of 2005 (EPACT), Public Law 109-58; 119 Stat. 849, to provide advice and recommendations to the Secretary of Energy on the program authorized by Title VIII of EPACT.

Tentative Agenda: Discuss and finalize the 2017 Annual Report of the Hydrogen and Fuel Cell Technical Advisory Committee.

Public Participation: The meeting is open to the public. Written statements may be filed with the Committee either before or after the meeting. In keeping with procedures, members of the public are welcome to make oral statements during the specified period for public comment. The public comment period will take place between 1 p.m. and 1:10 p.m. on November 2, 2018. Requests to make oral comments must be received five days prior to the meeting. Oral comments should be limited to two minutes in length. Members of the public will be heard in the order in which they sign up for the public comment period. Reasonable provision will be made to include all scheduled oral statements on the agenda. Please send requests for oral statements or any written comments to the Designated Federal Officer at the email or telephone number listed above.

Minutes: The minutes of the meeting will be available for public review and copying within 60 days on the HTAC website at: https://www.hydrogen.energy.gov/advisory_htac.html.

Signed in Washington, DC, on September 14, 2018.
Latanya Butler,
Deputy Committee Management Officer.

[FR Doc. 2018-20588 Filed 9-20-18; 8:45 am]

BILLING CODE 6450-01-P